DEPARTMENT OF THE INTERIOR

National Park Service

[NPS-WASO-NAGPRA-NPS0040480; PPWOCRADN0-PCU00RP14.R50000]

Notice of Intended Disposition: U.S. Department of the Interior, Bureau of Land Management, Oregon/Washington State Office, Lakeview District Office, Lakeview, OR

AGENCY: National Park Service, Interior.

ACTION: Notice.

SUMMARY: In accordance with the Native American Graves Protection and Repatriation Act (NAGPRA), the U.S. Department of the Interior, Bureau of Land Management, Oregon/Washington State Office, Lakeview District Office (BLM Lakeview District Office) intends to carry out the disposition of certain cultural items that meet the definition of sacred objects/objects of cultural patrimony removed from Federal or Tribal lands to the lineal descendants, Indian Tribe, or Native Hawaiian organization with priority for disposition in this notice.

DATES: Disposition of the cultural items in this notice may occur on or after August 11, 2025. If no claim for disposition is received by July 10, 2026, the cultural items in this notice will become unclaimed cultural items.

ADDRESSES: Send written claims for disposition of the human remains or cultural items in this notice to James Todd Forbes, Lakeview District Manager, U.S. Department of the Interior, Bureau of Land Management, 1301 S G Street, Lakeview, OR 97630, email tforbes@blm.gov.

SUPPLEMENTARY INFORMATION: This notice is published as part of the National Park Service's administrative responsibilities under NAGPRA. The determinations in this notice are the sole responsibility of the BLM Lakeview District Office, and additional information on the cultural items in this notice, including the results of consultation, can be found in the related records. The National Park Service is not responsible for the identifications in this notice.

Abstract of Information Available

Based on the information available, there are no human remains identified, and no associated funerary objects are present. The seven boxes of cultural items are obsidian projectile points, debitage, a biface, core and other flaked tools. The cultural items were excavated at Tucker Hill, located in Lake County, OR in June 2023 under ARPA permit OR-51069. The items excavated were from four sites at Tucker Hill 35LK3040, 35LK3042, 35LK3048, 35LK3062.

Determinations

The BLM Lakeview District Office has determined that:

• The seven boxes of sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• The Burns Paiute Tribe; Confederated Tribes of the Warm Springs Reservation of Oregon; Fort Bidwell Indian Community of the Fort Bidwell Reservation of California; and the Klamath Tribes have priority for disposition of the cultural items described in this notice.

Claims for Disposition

Written claims for disposition of the cultural items in this notice must be sent to the appropriate official identified in this notice under ADDRESSES. If no claim for disposition is received by July 10, 2026, the cultural items in this notice will become unclaimed cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the cultural items in this notice may occur on or after August 11, 2025. If competing claims for disposition are received, the BLM Lakeview District Office must determine the most appropriate claimant prior to disposition. Requests for joint disposition of the cultural items are considered a single request and not competing requests. The BLM Lakeview District Office is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: June 25, 2025.
Melanie O'Brien,
Manager, National NAGPRA Program.

[FR Doc. 2025-12833 Filed 7-9-25; 8:45 am]

BILLING CODE 4312-52-P